DEPARTMENT OF COMMERCE

International Trade Administration

[A-821-811]

Solid Fertilizer Grade Ammonium Nitrate From the Russian Federation: Rescission of Antidumping Duty Administrative Review; 2015-2016

AGENCY: Enforcement and Compliance, International Trade Administration, Department of Commerce.

SUMMARY: The Department of Commerce (the Department) is rescinding the administrative review of the antidumping duty order on solid fertilizer grade ammonium nitrate (ammonium nitrate) from the Russian Federation (Russia). The review covers the following producers/exporters of the subject merchandise: (1) JSC Acron/JSC Dorogobuzh (collectively, “Acron”) and (2) MCC EuroChem and its affiliates OJSC NAK Azot and OJSC Nevinnomyssky Azot (collectively, “EuroChem”). The period of review (POR) is April 1, 2015, through March 31, 2016.

DATES: Effective September 6, 2016.

FOR FURTHER INFORMATION CONTACT: David Crespo, AD/CVD Operations, Office II, Enforcement and Compliance, International Trade Administration, U.S. Department of Commerce, 14th Street and Constitution Avenue NW., Washington, DC 20230; telephone: (202) 482-3693.

Background

On April 28, 2016, the Department received a timely request, in accordance with section 751(a) of the Tariff Act of 1930, as amended (the Act), from CF Industries, Inc. and El Dorado Chemical Company (collectively, petitioners) to conduct an administrative review of the sales of Acron and EuroChem.¹ On June 6, 2016, the Department published in the Federal Register a notice of initiation of an administrative review of the antidumping duty order on ammonium nitrate from Russia with respect to Acron and EuroChem.² On June 30, 2016, the Department received a timely notice from Acron notifying the Department that it had no shipments of subject merchandise to the United States during the POR.³ On August 18, 2016, the petitioners withdrew their request for an administrative review with respect to Acron and EuroChem.⁴

¹ See the letter from the petitioners to the Department, entitled, “Ammonium Nitrate from the Russian Federation: Request for Review,” dated April 28, 2016.

² See Initiation of Antidumping and Countervailing Duty Administrative Reviews, 81 FR 36268 (June 6, 2016).

³ See the letter from Acron to the Department, entitled, “Solid Fertilizer Grade Ammonium Nitrate from the Russian Federation: No Shipment Letter,” dated June 30, 2016.

⁴ See the letter from the petitioners to the Department, entitled, “Ammonium Nitrate from the Russian Federation: Withdrawal of Request for Administrative Review,” dated August 18, 2016.

Rescission of Review

Pursuant to 19 CFR 351.213(d)(1), the Department will rescind an administrative review, in whole or in part, if a party that requested the review withdraws the request within 90 days of the date of publication of notice of initiation of the requested review. The petitioners withdrew their request for review by the 90-day deadline, and no other party requested an administrative review of the antidumping duty order on ammonium nitrate from Russia for the POR. Accordingly, the Department is rescinding the administrative review of the antidumping order on ammonium nitrate from Russia covering the period April 1, 2015 through March 31, 2016.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of doubled antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

This notice is issued and published in accordance with section 751 of the Act and 19 CFR 351.213(d)(4).

Dated: August 26, 2016.
Gary Tavernman,
Associate Deputy Assistant Secretary for Antidumping and Countervailing Duty Operations.

[FR Doc. 2016-21332 Filed 9-2-16; 8:45 am]

BILLING CODE 3510-DS-P